DEPARTMENT OF TRANSPORTATION

Federal Aviation Administration

14 CFR Part 39

[Docket No. FAA-2020-0494; Project Identifier AD-2020-00324-E; Amendment 39-21235; AD 2020-18-14]

RIN 2120-AA64

Airworthiness Directives; General Electric Company Turbofan Engines

AGENCY: Federal Aviation Administration (FAA), DOT.

ACTION: Final rule.

SUMMARY: The FAA is adopting a new airworthiness directive (AD) for all General Electric Company (GE) GE90-110B1 and GE90-115B model turbofan engines with a certain high-pressure turbine (HPT) rotor stage 2 disk installed. This AD was prompted by a report from the manufacturer that a subsurface anomaly was found on a HPT rotor stage 2 disk. This AD requires an ultrasonic inspection (USI) of the HPT rotor stage 2 disk and, depending on the result of the inspection, replacement of the HPT rotor stage 2 disk with a part eligible for installation. The FAA is issuing this AD to address the unsafe condition on these products.

DATES: This AD is effective October 21, 2020.

The Director of the Federal Register approved the incorporation by reference of a certain publication listed in this AD as of October 21, 2020.

ADDRESSES: For service information identified in this final rule, contact General Electric Company, 1 Neumann Way, Cincinnati, OH 45215; phone: 513-552-3272; email: aviation.fleetsupport@ae.ge.com. You may view this service information at the FAA, Airworthiness Products Section, Operational Safety Branch, 1200 District Avenue, Burlington, MA 01803. For information on the availability of this material at the FAA, call 781-238-7759. It is also available on the internet at https://www.regulations.gov by searching for and locating Docket No. FAA-2020-0494.

Examining the AD Docket

You may examine the AD docket on the internet at https://www.regulations.gov by searching for and locating Docket No. FAA-2020-0494; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Stephen Elwin, Aerospace Engineer, ECO Branch, FAA, 1200 District Avenue, Burlington, MA 01803; phone: 781-238-7236; fax: 781-238-7199; email: stephen.l.elwin@faa.gov.

SUPPLEMENTARY INFORMATION:

Background

The FAA issued a notice of proposed rulemaking (NPRM) to amend 14 CFR part 39 by adding an AD that would apply to all GE GE90-110B1 and GE90-115B model turbofan engines with a certain HPT rotor stage 2 disk installed. The NPRM published in the Federal Register on May 18, 2020 (85 FR 29676). The NPRM was prompted by a report from the manufacturer that a subsurface anomaly was found on a HPT rotor stage 2 disk. The NPRM proposed to require a USI of the HPT rotor stage 2 disk and, depending on the result of the inspection, replacement of the HPT rotor stage 2 disk with a part eligible for installation. The FAA is issuing this AD to address the unsafe condition on these products.

Comments

The FAA gave the public the opportunity to participate in developing this final rule. The FAA has considered the comments received. The Boeing Company, FedEx Express, United Airlines, and the Air Line Pilots Association, International, supported the NPRM.

Conclusion

The FAA reviewed the relevant data, considered the comments received, and determined that air safety and the public interest require adopting this final rule as proposed except for minor editorial changes. The FAA has determined that these minor changes:

• Are consistent with the intent that was proposed in the NPRM for addressing the unsafe condition; and

• Do not add any additional burden upon the public than was already proposed in the NPRM.

Service Information Incorporated by Reference under 1 CFR part 51

The FAA reviewed GE GE90-100 Service Bulletin (SB) 72-0838, dated January 31, 2020. The SB describes procedures for performing an USI of the HPT rotor stage 2 disk. This service information is reasonably available because the interested parties have access to it through their normal course of business or by the means identified in the ADDRESSES section.

Costs of Compliance

The FAA estimates that this AD affects 28 engines installed on airplanes of U.S. registry. Based on updated information from the manufacturer, the FAA revised the number of engines installed on airplanes of U.S. registry from 12 in the NPRM to 28 in this final rule.

The FAA estimates the following costs to comply with this AD:

Estimated Costs
Action | Labor cost | Parts cost | Cost per product | Cost on U.S. operators
USI of HPT rotor stage 2 disk | 8 work-hours × $85 per hour = $680 | $0 | $680 | $19,040

The FAA estimates the following costs to do any necessary replacements that would be required based on the results of the inspection. The FAA has no way of determining the number of engines that might need this replacement:

On-Condition Costs
Action | Labor cost | Parts cost | Cost per product
Remove and replace HPT rotor stage 2 disk | 2 work-hours × $85 per hour = $170 | $565,600 | $565,770

Authority for this Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed above, I certify that this AD:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-18-14 General Electric Company: Amendment 39-21235; Docket No. FAA-2020-0494; Project Identifier AD-2020-00324-E.

(a) Effective Date

This AD is effective October 21, 2020.

(b) Affected ADs

None.

(c) Applicability

This AD applies to all General Electric Company (GE) GE90-110B1 and GE90-115B model turbofan engines with a high-pressure turbine (HPT) rotor stage 2 disk, part number 2505M73P03, and with a serial number listed in Appendix—A, Table 1, of GE GE90-100 Service Bulletin (SB) 72-0838, dated January 31, 2020.

(d) Subject

Joint Aircraft System Component (JASC) Code 7250, Turbine Section.

(e) Unsafe Condition

This AD was prompted by a report from the manufacturer that a subsurface anomaly was found on a HPT rotor stage 2 disk. The FAA is issuing this AD to prevent failure of the HPT rotor stage 2 disk. The unsafe condition, if not addressed, could result in uncontained HPT rotor stage 2 disk release, damage to the engine, and damage to the airplane.

(f) Compliance

Comply with this AD within the compliance times specified, unless already done.

(g) Required Action

(1) At the next piece-part exposure after the effective date of this AD, perform an ultrasonic inspection (USI) of the HPT rotor stage 2 disk in accordance with the Accomplishment Instructions, paragraph 3.B.(1)(a), of GE GE90-100 SB 72-0838, dated January 31, 2020.

(2) If, during the USI required by paragraph (g)(1) of this AD, a rejectable indication is found, remove the HPT rotor stage 2 disk from service before further flight and replace it with a part eligible for installation.

(h) Definition

For the purpose of this AD, “piece-part exposure” is when the HPT rotor stage 2 disk is removed from the engine and completely disassembled.

(i) Alternative Methods of Compliance (AMOCs)

(1) The Manager, ECO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j) of this AD. You may email your request to: ANE-AD-AMOC@faa.gov.

(2) Before using any approved AMOC, notify your appropriate principal inspector, or lacking a principal inspector, the manager of the local flight standards district office/certificate holding district office.

(j) Related Information

For more information about this AD, contact Stephen Elwin, Aerospace Engineer, ECO Branch, FAA, 1200 District Avenue, Burlington, MA 01803; phone: 781-238-7236; fax: 781-238-7199; email: stephen.l.elwin@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) General Electric Company (GE) GE90-100 Service Bulletin 72-0838, dated January 31, 2020.

(ii) [Reserved]

(3) For GE service information identified in this AD, contact General Electric Company, 1 Neumann Way, Cincinnati, OH 45215; phone: 513-552-3272; email: aviation.fleetsupport@ae.ge.com.

(4) You may view this service information at FAA, Airworthiness Products Section, Operational Safety Branch, 1200 District Avenue, Burlington, MA 01803. For information on the availability of this material at the FAA, call 781-238-7759.

(5) You may view this service information that is incorporated by reference at the National Archives and Records Administration (NARA). For information on the availability of this material at NARA, email: fedreg.legal@nara.gov, or go to: https://www.archives.gov/federal-register/cfr/ibr-locations.html.

Issued on August 26, 2020.
Gaetano A. Sciortino,
Deputy Director for Strategic Initiatives, Compliance & Airworthiness Division, Aircraft Certification Service.

[FR Doc. 2020-20337 Filed 9-15-20; 8:45 am]

BILLING CODE 4910-13-P